DEPARTMENT OF ENERGY

Federal Energy Regulatory Commission

[Docket Nos. OR06-4-000; IS05-216-000, et al.]

Burlington Resources Trading Inc., Complainants v. Seminole Pipeline Company and Mid-America Pipeline Company, LLC, Respondents; Mid-America Pipeline Company, LLC; Notice of Complaint

March 1, 2006.

Take notice that on February 28, 2006, pursuant to Rules 206 and 212 of the Commission's Rules of Practice and Procedure (18 CFR 385.206, 385.212), sections 8, 9, 13, 15, and 16 of the Interstate Commerce Act (ICA) (49 U.S.C. App 8, 9, 13, 15, and 16 (1994), and the Commission's oil pipeline regulations at 18 CFR Part 343, Burlington Resources Trading Inc. filed a complaint, motion for summary disposition, motion to consolidate, and request for other relief, concerning rates for transportation of natural gas liquids on the pipeline systems of Mid-America Pipeline Company, LLC (MAPL) and Seminole Pipeline Company (Seminole).

Burlington Resources Trading Inc. certifies that copies of the complaint were served on representatives of MPL and Seminole, as well as all persons on the official service list.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time March 20, 2006.

Magalie R. Salas,
Secretary.

[FR Doc. E6-3211 Filed 3-7-06; 8:45 am]

BILLING CODE 6717-01-P